DEPARTMENT OF AGRICULTURE

Submission for OMB Review; Comment Request

October 2, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Specified Risk Materials.

OMB Control Number: 0583-0129.

Summary of Collection: The Food Safety and Inspection Service (FSIS) has been delegated the authority to exercise the functions of the Secretary as provided in the Federal Meat Inspection Act (FMIA) (21 U.S.C. 601 et seq.) This statute mandates that FSIS protect the public by ensuring that meat products are safe, wholesome, unadulterated, and properly labeled and packaged. FSIS requires that official establishments that slaughter cattle and/or process carcasses or parts of cattle develop written procedures for the removal, segregation, and disposition of specified risk materials (SRMs). Establishments are also required by FSIS to maintain daily records sufficient to document the implementation and monitoring of their procedures for the removal, segregation, and disposition of SRMs, and any corrective actions taken to ensure that such procedures are effective.

Need and Use of the Information: FSIS will collect information from establishments to ensure that cattle slaughtered for meat product are free from Bovine Spongiform Encephalopathy.

Description of Respondents: Business or other for-profit.

Number of Respondents: 3,512.

Frequency of Responses: Recordkeeping; Reporting: On occasion.

Total Burden Hours: 123,216.

Food Safety and Inspection Service

Title: Advanced Meat Recovery Systems.

OMB Control Number: 0583-0130.

Summary of Collection: The Food Safety and Inspection Service (FSIS) has been delegated the authority to exercise the functions of the Secretary as provided in the Federal Meat Inspection Act (FMIA) (21 U.S.C. 601 et seq.). This statute mandates that FSIS protect the public by ensuring that meat and poultry products are safe, wholesome, unadulterated, and properly labeled and packaged. FSIS requires that official establishments that produce meat from Advanced Meat Recovery (AMR) systems ensure that bones used for AMR systems do not contain brain, trigeminal ganglia, or spinal cord, to test for calcium, iron, spinal cord, and dorsal root ganglia, to document their testing protocols, to assess the age of cattle product used in the AMR system, and to document their procedures for handling product in a manner that does not cause product to be misbranded or adulterated, and to maintain records of their documentation and test results.

Need and Use of the Information: FSIS will collect information from establishments to ensure that the meat product produced by the use of AMR systems is free from Bovine Spongiform Encephalopathy.

Description of Respondents: Business or other for-profit.

Number of Respondents: 56.

Frequency of Responses: Recordkeeping; Reporting: On occasion.

Total Burden Hours: 25,209.

Ruth Brown,
Departmental Information Collection Clearance Officer.

[FR Doc. E7-19758 Filed 10-5-07; 8:45 am]

BILLING CODE 3410-DM-P